DEPARTMENT OF ENERGY

Federal Energy Regulatory Commission

[Docket No. RP00-218-000]

Natural Gas Pipeline Company of America; Notice of Proposed Changes in FERC Gas Tariff

March 22, 2000.

Take notice that on March 16, 2000, Natural Gas Pipeline Company of America (Natural) tendered for filing as part of its FERC Gas Tariff, Sixth Revised Volume No. 1, certain tariff sheets to be effective April 16, 2000.

Natural states that the purpose of this filing is to implement new Rate Schedule IBS, under which Natural would provide an interruptible imbalance management service on a no-notice basis for end-use facilities in conjunction with transportation under Rate Schedules FTS, FTS-G and ITS. This service would be provided through management of line pack. Conforming tariff changes have also been made in the General Terms and Conditions of the Tariff and in the pro forma service agreement. This filing represents a resubmission with some modification of Natural's previous tariff filing in Docket No. RP00-77, which was rejected by the Commission (without prejudice to refiling) in an order issued December 30, 1999 (89 FERC ¶ 61,341). Unlike the submission rejected in Docket No. RP00-77, this filing includes extensive supporting material, including a cost and revenue study and testimony. Natural states that the testimony addresses, inter alia, the issues raised by the intervenors in the prior filing at Docket No. RP00-77.

Natural requests waiver of the Commission's Regulations to the extent necessary to permit the tariff sheets submitted to become effective April 16, 2000.

Natural states that copies of the filing are being mailed to its customers and interested state regulatory agencies.

Any person desiring to be heard or to protest said filing should file a motion to intervene or a protest with the Federal Energy Regulatory Commission, 888 First Street, NE, Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance).

David P. Boergers,
Secretary.

[FR Doc. 00-7529 Filed 3-27-00; 8:45 am]

BILLING CODE 6717-01-M